DEPARTMENT OF THE TREASURY

Internal Revenue Service

26 CFR Part 602

[TD 8965]

Unified Partnership Audit Procedures

Correction

In rule document 01-24517 beginning on page 50541 in the issue of Thursday, October 4, 2001, make the following correction:

§602.101 [Corrected]

On page 50564, in the first column, in the table in paragraph (b), the stars between the entries “301.6231(c)-1” and “301.6231(c)-2” are removed.

[FR Doc. C1-24517 Filed 12-10-01; 8:45 am]

BILLING CODE 1505-01-D